DEPARTMENT OF COMMERCE

National Oceanic and Atmospheric Administration

[I.D. 102504E]

Endangered Species; File No. 1494

AGENCY: National Marine Fisheries Service (NMFS), National Oceanic and Atmospheric Administration (NOAA), Commerce.

ACTION: Issuance of permit.

SUMMARY: Notice is hereby given that St. George's School, P.O. Box 1910, Newport, RI 02840 has been issued a permit to take loggerhead (Caretta caretta), green (Chelonia mydas), hawksbill (Eretmochelys imbricata) and Kemp's ridley (Lepidochelys kempii) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371; and

Southeast Region, NMFS, 9721 Executive Center Drive North, St. Petersburg, FL 33702-2432; phone (727)570-5301; fax (727)570-5320.

FOR FURTHER INFORMATION CONTACT: Patrick Opay or Jennifer Skidmore, (301)713-2289.

SUPPLEMENTARY INFORMATION: On August 20, 2004, notice was published in the Federal Register (69 FR 51637) that a request for a scientific research permit to take sea turtles had been submitted by the above-named organization. The requested permit has been issued under the authority of the Endangered Species Act of 1973, as amended (ESA; 16 U.S.C. 1531 et seq.) and the regulations governing the taking, importing, and exporting of endangered and threatened species (50 CFR parts 222-226).

Permit No. 1494 is a five-year permit authorizing St. George's School to annually capture 50 loggerhead, 5 green, 5 hawksbill and 5 Kemp's ridley sea turtles by hand or dip net. Animals will be weighed, measured, flipper tagged and released. The applicant will also collect tissue samples from the loggerhead, green and hawksbill species and import the samples to the U.S. The purpose of the research is to study habitat utilization and migratory behavior of these species.

Issuance of this permit, as required by the ESA, was based on a finding that such permit (1) was applied for in good faith, (2) will not operate to the disadvantage of the endangered and threatened species which are the subject of this permit, and (3) is consistent with the purposes and policies set forth in section 2 of the ESA.

Dated: December 17, 2004.
Stephen L. Leathery,
Chief, Permits, Conservation and Education Division, Office of Protected Resources, National Marine Fisheries Service.

[FR Doc. 04-28132 Filed 12-23-04; 8:45 am]

BILLING CODE 3510-22-S